DEPARTMENT OF COMMERCE

International Trade Administration

[A-533-824]

Notice of Amended Final Antidumping Duty Determination of Sales at Less Than Fair Value and Antidumping Duty Order: Polyethylene Terephthalate Film, Sheet, and Strip from India

AGENCY: Import Administration, International Trade Administration, Department of Commerce.

SUMMARY: We are amending our final determination (see Notice of Final Determination of Sales at Less Than Fair Value: Polyethylene Terephthalate Film, Sheet, and Strip from India, 67 FR 34899 (May 16, 2002) (Final Determination)) to reflect the correction of a ministerial error made in the final determination. This correction is in accordance with section 735(e) of the Tariff Act of 1930, as amended (the Act) and section 351.224 of the Department of Commerce's (the Department's) regulations. The period of investigation (POI) covered by this amended final determination is April 1, 2000, through March 31, 2001. This notice also constitutes the antidumping duty order with respect to polyethylene terephthalate film, sheet, and strip (PET film) from India.

EFFECTIVE DATE : July 1, 2002.

FOR FURTHER INFORMATION CONTACT: Timothy Finn, Zev Primor, or Howard Smith at (202) 482-0065, (202) 482-4114, and (202) 482-5193, respectively; AD/CVD Enforcement, Office 4, Group II, Import Administration, Room 1870, International Trade Administration, U.S. Department of Commerce, 14th Street and Constitution Avenue, NW, Washington, DC 20230.

SUPPLEMENTARY INFORMATION:

Applicable Statute and Regulations

Unless otherwise indicated, all citations to the Act are references to the provisions effective January 1, 1995, the effective date of the amendments made to the Act by the Uruguay Round Agreements Act. In addition, unless otherwise indicated, all citations to the Department's regulations are to 19 CFR part 351 (April 2001).

Scope of The Order

For purposes of this order, the products covered are all gauges of raw, pretreated, or primed PET film, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00. HTSUS subheadings are provided for convenience and Customs purposes. The written description of the scope of this order is dispositive.

Amended Final Determination

On May 16, 2002, in accordance with sections 735(d) and 777(i)(1) of the Act, the Department published its final determination in this proceeding. See Final Determination, 67 FR 34899. Pursuant to 19 CFR 351.224(c), on May 15, 2002, we received a timely filed submission from the petitioners¹ alleging that, in the final determination, the Department made two ministerial errors in calculating the margin for one of the respondents, Ester Industries Limited (Ester). Specifically, the petitioners allege that (1) the Department should use the date of the final determination rather than the date of the preliminary determination as the payment date in calculating U.S. imputed credit expenses for transactions without payment dates, and (2) the Department failed to deduct from the export price (EP) certain bank charges associated with EP sales.

¹ The petitioners in this investigation are Dupont Teijin Films, Mitsubishi Polyester Film of America and Toray Plastics (America) Inc. (collectively the petitioners).

On May 20, 2002, we received rebuttal comments from Ester regarding the petitioners' allegation of ministerial errors. Ester contends that the alleged errors which the petitioners' claim to be ministerial fall outside the definition of a “ministerial error” and, as such, they should not be considered by the Department.

In accordance with section 735(e) of the Act, we have determined that the Department made a ministerial error only with respect to the payment dates used to calculate U.S. imputed credit expenses for transactions without payment dates. We have adjusted our final margin calculations to reflect this correction. This correction changed Ester's final antidumping duty margin from 24.11 percent to 24.14 percent. For a detailed analysis of the alleged ministerial errors, and the Department's position on each, see the Memorandum to Bernard T. Carreau from Holly A. Kuga, dated concurrently with this notice, regarding the subject Ministerial Error Allegation on file in room B-099 of the Main Commerce building.

Antidumping Duty Order

On June 24, 2002, in accordance with section 735(d) of the Act, the International Trade Commission (the Commission) notified the Department of its final determination that an industry in the United States is materially injured by reason of less-than-fair-value imports of subject merchandise from India, pursuant to section 735(b)(1)(A) of the Act. Therefore, in accordance with section 736(a)(1) of the Act, the Department will direct U.S. Customs to assess, upon further advice by the Department, antidumping duties equal to the amount by which the normal value of the merchandise exceeds the export price of the merchandise (after adjusting for the export subsidy rate in the companion countervailing duty order) for all relevant entries of polyethylene terephthalate film, sheet, and strip from India. These antidumping duties will be assessed on all unliquidated entries of subject merchandise from India (except for imports of subject merchandise produced and exported by Polyplex Corporation Limited) entered, or withdrawn from warehouse, for consumption on or after December 21, 2001, the date on which the Department published its Notice of Preliminary Determination of Sales at Less Than Fair Value and Postponement of Final Determination: Polyethylene Terephthalate Film, Sheet, and Strip From India, (66 FR 65893).

On or after the date of publication of this notice in the Federal Register, U.S. Customs must require, at the same time as importers would normally deposit estimated duties, cash deposits for the subject merchandise equal to the estimated weighted-average dumping margins listed below, adjusted for the export subsidy rate in the companion countervailing duty order. The “All Others” rate applies to all exporters of subject merchandise not specifically listed below.

Manufacturer/exporter | Margin (%)
Ester Industries Limited | 24.14
Polyplex Corporation Limited | *****²
All Others | 24.14
² The Department calculated a weighted-average dumping margin of 10.34 percent for Polyplex before adjusting the margin for export subsidies for which the Department determined to impose countervailing duties. However, because the rate for Polyplex is zero after adjusting the dumping margin for the export subsidies in the companion countervailing duty order, Polyplex is excluded from the antidumping duty order.

This notice constitutes the antidumping duty order with respect to polyethylene terephthalate film, sheet, and strip from India. Interested parties may contact the Department's Central Records Unit, Room B-099 of the main Commerce building, for copies of an updated list of antidumping duty orders currently in effect.

This order is issued and published in accordance with section 736(a) of the Act and 19 CFR 351.211.

Dated: June 25, 2002
Joseph A. Spetrini,
Acting Assistant Secretary for Import Administration.

[FR Doc. 02-16513 Filed 6-28-02; 8:45 am]

BILLING CODE 3510-DS-S